DEPARTMENT OF AGRICULTURE

Food Safety and Inspection Service

[Docket No. FSIS-2019-0006]

Notice of Request To Revise an Approved Information Collection: Import of Undenatured Inedible Product and Samples for Laboratory Examination, Research, Evaluative Testing, or Trade Show Exhibition

AGENCY: Food Safety and Inspection Service, USDA.

ACTION: Notice and request for comments.

SUMMARY: In accordance with the Paperwork Reduction Act of 1995 and Office of Management and Budget (OMB) regulations, the Food Safety and Inspection Service (FSIS) is announcing its intention to revise the approved information collection regarding the importation of undenatured inedible meat and egg products into the United States. The approval for this information collection will expire on September 30, 2019. FSIS is adding to this collection a form for samples taken for laboratory examination, research, evaluative testing, or trade show exhibition. The Agency has increased the burden estimate by 23,263 hours due to updated information and the addition of this form.

DATES: Submit comments on or before June 3, 2019.

ADDRESSES: FSIS invites interested persons to submit comments on this Federal Register notice. Comments may be submitted by one of the following methods:

• Federal eRulemaking Portal: This website provides commenters the ability to type short comments directly into the comment field on the web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2019-0006. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Gina Kouba, Office of Policy and Program Development, Food Safety and Inspection Service, USDA, 1400 Independence Avenue SW, Room 6065, South Building, Washington, DC 20250-3700; (202) 720-5627.

SUPPLEMENTARY INFORMATION:

Title: Import of Undenatured Inedible Product and Samples for Laboratory Examination, Research, Evaluative Testing, or Trade Show Exhibition.

OMB Control Number: 0583-0161.

Expiration Date: 09/30/2019.

Type of Request: Revision to an approved information collection.

Abstract: FSIS has been delegated the authority to exercise the functions of the Secretary (7 CFR 2.18, 2.53) as specified in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by verifying that meat, poultry, and egg products are safe, wholesome, unadulterated, and properly labeled and packaged.

FSIS is requesting a revision to the approved information collection regarding the importation of undenatured inedible products. FSIS uses the forms in this information collection to identify and keep track of product not subject to FSIS import reinspection requirements. The approval for this information collection will expire on September 30, 2019. FSIS is adding to this collection a form for samples of this product taken for laboratory examination, research, evaluative testing, or trade show exhibition, to ensure this product is not distributed in commerce. The Agency has increased the burden estimate by 23,263 hours due to updated information and the addition of this form.

Undenatured inedible meat and egg products may be imported into the United States if they meet the requirements of FSIS's regulations (9 CFR 325.11(e) and 590.45(d)). Additionally, foreign governments are to petition FSIS for approval to import undenatured inedible egg products into the United States (9 CFR 590.45(d)).

Firms complete FSIS Form 9540-4, “Permit Holder—Importation of Undenatured Inedible Product” for the undenatured inedible product that they are importing into the United States. FSIS uses the information on the Form 9540-4 to keep track of the movement of imported undenatured inedible meat and egg products.

Additionally, meat, poultry, and egg product samples destined for laboratory examination, research, evaluative testing, or trade show exhibition are not subject to FSIS import reinspection requirements. Firms will be required to complete FSIS Form 9540-5, “Notification of Intent to Import Meat, Poultry, Or Egg Products `Samples for Laboratory Examination, Research, Evaluative Testing or Trade Show Exhibition' ” to ensure that samples imported into the United States are not mixed with product that will be sold or distributed in commerce. (9 CFR 327.19, and 381.207, and 590.960).

FSIS has made the following estimates based upon an information collection assessment:

Respondents: Importers.

Estimate of Burden: FSIS estimates that it will take respondents an average of 115 hours annually to complete and submit these forms to FSIS.

Estimated Number of Respondents: 209.

Estimated Number of Annual Responses per Respondent: 360.

Estimated Total Annual Burden on Respondents: 23,930 hours.

Copies of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS also will also announce and provide a link to it through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done in Washington.
Carmen M. Rottenberg,
Administrator.

[FR Doc. 2019-06298 Filed 4-1-19; 8:45 am]

BILLING CODE 3410-DM-P